DEPARTMENT OF THE INTERIOR

Fish and Wildlife Service

Establishment of Rocky Flats National Wildlife Refuge, Colorado

AGENCY: Fish and Wildlife Service, Interior.

ACTION: Establishment of Rocky Flats National Wildlife Refuge.

SUMMARY: In accordance with the provisions of the Rocky Flats National Wildlife Refuge Act of 2001 (Pub. L. 107-107, 115 Stat. 1012, 1380-1387) hereinafter referred to as the “Refuge Act,” the Secretary of Energy has transferred primary administrative jurisdiction over approximately 3,953.03 acres of real property at the former Rocky Flats Environmental Technology Site (RFETS), Jefferson and Boulder Counties, Colorado, to the Secretary of the Interior.

Pursuant to section 3177(d) of the “Refuge Act,” the Secretary of the Interior hereby provides notice of the establishment of the Rocky Flats National Wildlife Refuge (Refuge).

The “Refuge Act” provides that following environmental remediation of RFETS, under the Comprehensive Environmental Response, Compensation, and Liability Act of 1980, and other applicable provisions of law, the Secretary of Energy shall transfer administrative jurisdiction over real property comprising the Refuge to the Secretary of the Interior for establishment of the Rocky Flats National Wildlife Refuge.

Environmental remediation of the Rocky Flats National Priorities List Site has been completed, except for on-going operations and maintenance, pursuant to a Record of Decision signed by the Department of Energy, Environmental Protection Agency (EPA) and the State of Colorado in 2006. On May 25, 2007, the Regional Administrator of the EPA published notice in the Federal Register announcing deletion of the Peripheral Operable Unit and Operable Unit 3. On June 11, 2007, the Administrator of the EPA, acting through the Regional Administrator, Region 8, EPA, certified to the Secretary of Energy and the Secretary of the Interior that all response actions for the deleted areas have been completed, except for the operation and maintenance associated with response acting and that all response actions are operating properly and successfully.

Pursuant to the “Refuge Act,” administrative jurisdictions over portions of the deleted Peripheral Operable Unit, totaling approximately 3,953.03 acres were transferred from the Department of Energy to the Department of the Interior, through a Letter of Transfer dated July 12, 2007. This notice of establishment of the Refuge is required within 30 days of that transfer by section 3177(d) of the “Refuge Act.”

FOR FURTHER INFORMATION CONTACT: Steve Berendzen, (303) 289-0350.

Dated: July 18, 2007.
Sharon R. Rose,
Acting Regional Director, Region 6, Denver, Colorado.

[FR Doc. 07-3773 Filed 8-2-07; 8:45 am]

BILLING CODE 4310-55-M